DEPARTMENT OF ENERGY

Federal Energy Regulatory Commission

Combined Notice of Filings #2

Take notice that the Commission received the following electric rate filings:

Docket Numbers: ER12-247-001.

Applicants: Entergy Gulf States Louisiana, L.L.C.

Description: Entergy Gulf States Louisiana, L.L.C. submits tariff filing per 35: ER12-247 Compliance Filing to be effective 4/20/2011.

Filed Date: 4/13/12.

Accession Number: 20120413-5144.

Comments Due: 5 p.m. ET 5/4/12.

Docket Numbers: ER12-248-001.

Applicants: Entergy Louisiana, LLC.

Description: Entergy Louisiana, LLC submits tariff filing per 35: ER12-248 Compliance Filing to be effective 4/20/2011.

Filed Date: 4/13/12.

Accession Number: 20120413-5145.

Comments Due: 5 p.m. ET 5/4/12.

Docket Numbers: ER12-249-001.

Applicants: Entergy Mississippi, Inc.

Description: Entergy Mississippi, Inc. submits tariff filing per 35: ER12-249 Compliance Filing to be effective 4/20/2011.

Filed Date: 4/13/12.

Accession Number: 20120413-5149.

Comments Due: 5 p.m. ET 5/4/12.

Docket Numbers: ER12-250-001.

Applicants: Entergy New Orleans, Inc.

Description: Entergy New Orleans, Inc. submits tariff filing per 35: ER12-250 Compliance Filing to be effective 4/20/2011.

Filed Date: 4/13/12.

Accession Number: 20120413-5150.

Comments Due: 5 p.m. ET 5/4/12.

Docket Numbers: ER12-251-001.

Applicants: Entergy Texas, Inc.

Description: Entergy Texas, Inc. submits tariff filing per 35: ER12-251 Compliance Filing to be effective 4/20/2011.

Filed Date: 4/13/12.

Accession Number: 20120413-5152.

Comments Due: 5 p.m. ET 5/4/12.

Docket Numbers: ER12-1528-000.

Applicants: Midwest Independent Transmission System Operator, Inc.

Description: GRE-NSP-Fenton T-T to be effective 4/14/2012.

Filed Date: 4/13/12.

Accession Number: 20120413-5107.

Comments Due: 5 p.m. ET 5/4/12.

Docket Numbers: ER12-1529-000.

Applicants: PJM Interconnection, L.L.C., American Electric Power Service Corporation.

Description: AEPSC submits 31st Revised SA No. 1336 among AEPSC & Buckeye to be effective 3/24/2012.

Filed Date: 4/13/12.

Accession Number: 20120413-5143.

Comments Due: 5 p.m. ET 5/4/12.

Docket Numbers: ER12-1530-000.

Applicants: Appalachian Power Company.

Description: Appalachian Power Company submits tariff filing per 35.13(a)(2)(iii: 1_20120413 CSP Merger Revisions to be effective 1/1/2012.

Filed Date: 4/13/12.

Accession Number: 20120413-5153.

Comments Due: 5 p.m. ET 5/4/12.

Docket Numbers: ER12-1531-000.

Applicants: AEP Texas Central Company.

Description: AEP Texas Central Company submits tariff filing per 35.13(a)(2)(iii: 20120413 TCC OATT Conc to be effective 1/1/2012.

Filed Date: 4/13/12.

Accession Number: 20120413-5154.

Comments Due: 5 p.m. ET 5/4/12.

Docket Numbers: ER12-1532-000.

Applicants: AEP Texas North Company.

Description: AEP Texas North Company submits tariff filing per 35.13(a)(2)(iii: 3_20120413 TNC OATT Conc to be effective 1/1/2012.

Filed Date: 4/13/12.

Accession Number: 20120413-5155.

Comments Due: 5 p.m. ET 5/4/12.

Docket Numbers: ER12-1533-000.

Applicants: Indiana Michigan Power Company.

Description: Indiana Michigan Power Company submits tariff filing per 35.13(a)(2)(iii: 4_I&M Oatt Conc to be effective 1/1/2012.

Filed Date: 4/13/12.

Accession Number: 20120413-5160.

Comments Due: 5 p.m. ET 5/4/12.

Docket Numbers: ER12-1534-000.

Applicants: Kentucky Power Company.

Description: Kentucky Power Company submits tariff filing per 35.13(a)(2)(iii: 5_20120413 KPCo OATT Conc to be effective 1/1/2012.

Filed Date: 4/13/12.

Accession Number: 20120413-5164.

Comments Due: 5 p.m. ET 5/4/12.

Docket Numbers: ER12-1535-000.

Applicants: Kingsport Power Company.

Description: Kingsport Power Company submits tariff filing per 35.13(a)(2)(iii: 6_20120413 KgPCo OATT Conc to be effective 1/1/2012.

Filed Date: 4/13/12.

Accession Number: 20120413-5167.

Comments Due: 5 p.m. ET 5/4/12.

Docket Numbers: ER12-1536-000.

Applicants: Ohio Power Company.

Description: Ohio Power Company submits tariff filing per 35.13(a)(2)(iii: 7_20120413 OPCo OATT Conc to be effective 1/1/2012.

Filed Date: 4/13/12.

Accession Number: 20120413-5171.

Comments Due: 5 p.m. ET 5/4/12.

Docket Numbers: ER12-1537-000.

Applicants: Public Service Company of Oklahoma.

Description: Public Service Company of Oklahoma submits tariff filing per 35.13(a)(2)(iii: 8_20120413 PSO OATT Conc to be effective 1/1/2012.

Filed Date: 4/13/12.

Accession Number: 20120413-5173.

Comments Due: 5 p.m. ET 5/4/12.

Docket Numbers: ER12-1538-000.

Applicants: Southwestern Electric Power Company.

Description: Southwestern Electric Power Company submits tariff filing per 35.13(a)(2)(iii: 9_20120413 SWEPCO OATT Conc to be effective 1/1/2012.

Filed Date: 4/13/12.

Accession Number: 20120413-5174.

Comments Due: 5 p.m. ET 5/4/12.

Docket Numbers: ER12-1539-000.

Applicants: Wheeling Power Company.

Description: Wheeling Power Company submits tariff filing per 35.13(a)(2)(iii: 10_20120413 WPCo OATT Conc to be effective 1/1/2012.

Filed Date: 4/13/12.

Accession Number: 20120413-5175.

Comments Due: 5 p.m. ET 5/4/12.

Docket Numbers: ER12-1540-000.

Applicants: Indiana Michigan Power Company.

Description: Indiana Michigan Power Company submits tariff filing per 35.13(a)(2)(iii: 11_20120413 I&M Oper Co MBR Conc to be effective 1/1/2012.

Filed Date: 4/13/12.

Accession Number: 20120413-5176.

Comments Due: 5 p.m. ET 5/4/12.

Docket Numbers: ER12-1541-000.

Applicants: Kentucky Power Company.

Description: Kentucky Power Company submits tariff filing per 35.13(a)(2)(iii: 12_20120413 KPCo Oper Co MBR Conc to be effective 1/1/2012.

Filed Date: 4/13/12.

Accession Number: 20120413-5177.

Comments Due: 5 p.m. ET 5/4/12.

Docket Numbers: ER12-1542-000.

Applicants: Kingsport Power Company.

Description: Kingsport Power Company submits tariff filing per 35.13(a)(2)(iii: 13_20120413 KgPCo Oper Co Conc to be effective 1/1/2012.

Filed Date: 4/13/12.

Accession Number: 20120413-5178.

Comments Due: 5 p.m. ET 5/4/12.

Docket Numbers: ER12-1543-000.

Applicants: Ohio Power Company.

Description: Ohio Power Company submits tariff filing per 35.13(a)(2)(iii: 14_20120413 OPCo Oper Co MBR Conc to be effective 1/1/2012.

Filed Date: 4/13/12.

Accession Number: 20120413-5179.

Comments Due: 5 p.m. ET 5/4/12.

Docket Numbers: ER12-1544-000.

Applicants: Wheeling Power Company.

Description: Wheeling Power Company submits tariff filing per 35.13(a)(2)(iii: 15_20120413 WPCo Oper Co MBR Conc to be effective 1/1/2012.

Filed Date: 4/13/12.

Accession Number: 20120413-5180.

Comments Due: 5 p.m. ET 5/4/12.

Docket Numbers: ER12-1545-000.

Applicants: Columbus Southern Power Company.

Description: Columbus Southern Power Company submits tariff filing per 35.15: 16_20120413 CSP OATT Conc Cancellation to be effective 4/13/2012.

Filed Date: 4/13/12.

Accession Number: 20120413-5181.

Comments Due: 5 p.m. ET 5/4/12.

Docket Numbers: ER12-1546-000.

Applicants: Columbus Southern Power Company.

Description: Columbus Southern Power Company submits tariff filing per 35.15: 17_20120413 CSP MBR Conc Cancellation to be effective 4/13/2012.

Filed Date: 4/13/12.

Accession Number: 20120413-5182.

Comments Due: 5 p.m. ET 5/4/12.

Docket Numbers: ER12-1547-000.

Applicants: Columbus Southern Power Company.

Description: Columbus Southern Power Company submits tariff filing per 35.15: 18_20120413 CSP RS and SA Cancellation to be effective 4/13/2012.

Filed Date: 4/13/12.

Accession Number: 20120413-5183.

Comments Due: 5 p.m. ET 5/4/12.

Docket Numbers: ER12-1548-000.

Applicants: Southern California Edison Company.

Description: Southern California Edison Company submits tariff filing per 35.13(a)(2)(iii: GIA and Service Agreement with SunEdison Origination1, LLC Westminster Project to be effective 4/14/2012.

Filed Date: 4/13/12.

Accession Number: 20120413-5186.

Comments Due: 5 p.m. ET 5/4/12.

Docket Numbers: ER12-1549-000.

Applicants: Southern California Edison Company.

Description: Southern California Edison Company submits tariff filing per 35.13(a)(2)(iii: GIA and Service Agreement with SunEdison Origination1, LLC Chino Hills Proj to be effective 4/14/2012.

Filed Date: 4/13/12.

Accession Number: 20120413-5212.

Comments Due: 5 p.m. ET 5/4/12.

Docket Numbers: ER12-1550-000.

Applicants: ISO New England Inc., New England Power Pool Participants Committee.

Description: ISO New England Inc. submits tariff filing per 35.13(a)(2)(iii: MR1 Clari. to Transition Per. Rules for Price Resp. Demand to be effective 6/1/2012.

Filed Date: 4/13/12.

Accession Number: 20120413-5215.

Comments Due: 5 p.m. ET 5/4/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2012.
Nathaniel J. Davis, Sr.,
Deputy Secretary.

[FR Doc. 2012-9563 Filed 4-19-12; 8:45 am]

BILLING CODE 6717-01-P